DEPARTMENT OF HEALTH AND HUMAN SERVICES

National Institutes of Health

National Institute of Diabetes and Digestive and Kidney Diseases; Amended Notice of Meeting

Notice is hereby given of a change in the meeting of the National Diabetes and Digestive and Kidney Diseases Advisory Council, September 20, 2001, 1:00 p.m. to September 21, 2001, 10:00 a.m., National Institutes of Health, 9000 Rockville Pike, Building 31, Conference Room 9A51, Bethesda, MD, 20892 which was published in the Federal Register on August 27, 2001, 66FR166.

Digestive Diseases and Nutrition Subcommittee's open session on Sept. 20th will be from 1:30 p.m.-4:00 p.m.; closed session will be from 4:00 p.m. to adjournment. On September 21, open session will be 8:00 a.m. until 9:30 a.m. The meeting is partially closed to the public.

Dated: August 31, 2001.
LaVerne Y. Stringfield,
Director, Office of Federal Advisory Committee Policy.

[FR Doc. 01-22785 Filed 9-10-01; 8:45 am]

BILLING CODE 4140-01-M